SMALL BUSINESS ADMINISTRATION

[Declaration of Economic Injury Disaster #9Q36]

Commonwealth of Massachusetts; Disaster Loan Areas

Suffolk County and the contiguous counties of Essex, Middlesex and Norfolk constitute an economic injury disaster loan area as a result of a fire that occurred in the Roxbury section of Boston, MA on June 9, 2002. The fire destroyed commercial buildings in Dudley Square. Eligible small businesses and small agricultural cooperatives without credit available elsewhere may file applications for economic injury assistance as a result of this disaster until the close of business on March 27, 2003, at the address listed below or other locally announced locations:

U.S. Small Business Administration, Disaster Area 1 Office, 360 Rainbow Blvd, South 3rd Floor, Niagara Falls, NY 14303

The interest rate for eligible small businesses and small agricultural cooperatives is 3.5 percent. The number assigned for economic injury for this disaster is 9Q3600 for Massachusetts.

(Catalog of Federal Domestic Assistance Program No. 59002)
Dated: June 27, 2002.
Melanie R. Sabelhaus,
Acting Administrator.

[FR Doc. 02-16788 Filed 7-3-02; 8:45 am]

BILLING CODE 8025-01-P